DEPARTMENT OF EDUCATION

National Mathematics Advisory Panel

AGENCY: National Mathematics Advisory Panel, DOE.

ACTION: Notice of an open meeting.

SUMMARY: This notice sets forth the schedule and proposed agenda of an upcoming meeting of the National Mathematics Advisory Panel. The notice also describes the functions of the Panel. Notice of this meeting is required by section 10(a)(2) of the Federal Advisory Committee act and is intended to notify the public of their opportunity to attend.

DATES: Monday, May 22, 2006.

Time: 10 a.m. to 3 p.m.

ADDRESSES: The Panel will meet in Washington, DC, at the National Academy of Sciences Building, 2100 C Street, NW., Washington, DC.

FOR FURTHER INFORMATION CONTACT: Tyrrell Flawn, Executive Director: National Mathematics Advisory Panel, 400 Maryland Avenue, SW., Washington, DC 20202; telephone (202) 260-8354.

SUPPLEMENTARY INFORMATION: The Panel is established by Executive Order 13398. The purpose of this Panel is to foster greater knowledge of and improved performance in mathematics among American students, in order to keep America competitive, support American talent and creativity, encourage innovation throughout the American economy and help State, local, territorial, and tribal governments give the nation's children and youth the education they need to succeed.

The Panel will submit to the President, through the Secretary, a preliminary report not later than January 31, 2007, and a final report not later than February 28, 2008. Both reports shall, at a minimum, contain recommendations, based on the best available scientific evidence, on the following:

(a) The critical skills and skill progressions for students to acquire competence in algebra and readiness for higher levels of mathematics;

(b) the role and appropriate design of standards and assessment in promoting mathematical competence;

(c) the process by which students of various abilities and backgrounds learn mathematics;

(d) instructional practices, programs, and materials that are effective for improving mathematics learning;

(e) the training, selection, placement, and professional development of teachers of mathematics in order to enhance students' learning of mathematics;

(f) the role and appropriate design of systems for delivering instruction in mathematics that combine the different elements of learning processes, curricula, instruction, teacher training and support, and standards, assessments, and accountability;

(g) needs for research in support of mathematics education;

(h) ideas for strengthening capabilities to teach children and youth basic mathematics, geometry, algebra and calculus and other mathematical disciplines;

(i) such other matters relating to mathematics education as the Panel deems appropriate; and

(j) such other matters relating to mathematics education as the Secretary may require.

The entire Panel will meet for the duration of the first meeting. The meeting agenda will include introduction of all the members and a background briefing on the operation of the Panel. In addition, the Panel will discuss plans for upcoming meetings and the work of the Panel.

Individuals who will need accommodations for a disability in order to attend the meeting (e.g., interpreting services, assistive listening devices, or materials in alternative formats) should notify Tyrrell Flawn at (202) 260-8354 no later than May 12, 2006. We will attempt to meet requests for accommodations after this date but cannot guarantee their availability. The meeting site is accessible to individuals with disabilities.

Individuals interested in attending the meeting must register in advance because of limited space issues. Please contact Tyrrell Flawn at (202) 260-8354 or by e-mail at Tyrrell.Flawn@ed.gov.

Opportunities for public comment are available through the National Math Panel Web site at http://www.ed.gov/about/bdscomm/list/mathpanel/index.html. Records are kept of all Panel proceedings and are available for public inspection at the staff office for the Panel from the hours of 9 a.m. to 5 p.m.

Dated: May 3, 2006.
Margaret Spellings,
Secretary, U.S. Department of Education.

[FR Doc. 06-4303 Filed 5-8-06; 8:45 am]

BILLING CODE 4000-01-M